DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of November 2004.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-55,745; Interstate Brands Corp., Grand Rapids, MI

TA-W-55,773; Dorado Sock, Inc., Gibsonville, NC

TA-W-55,703; Otsego Tool and Engineering, Inc., Albertville, MN

TA-W-55,803; Collins and Aikman, Plastics Div., Manchester, MI

TA-W-55,730; B&J Knits, Inc., Statesville, NC

TA-W-55,742; Rock-Tenn Co., Otsego, MI

TA-W-55,741; Jefferson Smurfit Corp., Corrugated Container Div., a subsidiary of Smurfit Stone Container Corp., Milford, CT

TA-W-55,485; American Italian Pasta Co., Excelsior Springs, MO

TA-W-55,658; General Dynamics Land Systems, California Technical Center, including on-site workers from CDI Professional Services, Goleta, CA

TA-W-55,704; Quantegy, Inc., Opelika, AL

TA-W-55,839; Lindsay Claire Designs, Ltd, Niagara Falls, NY

TA-W-55,705; Mid-South Waste, a subsidiary of Hi-Rise Recycling Companies, Inc., New Albany, MS

TA-W-55,863; Dorby Frocks, New York, NY

TA-W-55,690; Tower Automotive, Michigan Limited Partnership, Greenville, MI

TA-W-55,775; American Fibrit, Automotive Group, a wholly owned subsidiary of Johnson Controls, Inc., Battle Creek, MI, engaged in employment related to the production of Saturn instrument panels and Mercedes door panels are denied eligibility to apply for adjustment assistance under Section 223 of the Trade Act of 1974.

The workers' firm does not produce an article as required for certification under Section 222 of the Trade Act of 1974.

TA-W-55,650; Nokia, Inc., subsidiary of Nokia Corp., Customer Care Repair Services, Fort Worth, TX

TA-W-55,767; Lenox, Inc., Oxford, NC

TA-W-55,813; Nuvo Corp., subsidiary of Nuvo Network Management, Inc., Minnetonka, MN

TA-W-55,663; Hewlett-Packard Co., Mobile Computing Group, Boise, ID

TA-W-55,755; GE IT Solutions, Inc., Erlandger Help Desk, Erlanger, KY

TA-W-55,732; John Crane, Inc., McAllen Warehouse, McAllen, TX

TA-W-55,739; Zenith Electronics Corp., a subsidiary of LG Electronics, Inc., Lincolnshire, IL

TA-W-55,692; Falcon Garments, Dallas, TX

TA-W-55,867; Blue River Consulting, Inc., Denver, CO

TA-W-55,777; Language Line Services, a div. of Language Line, LLC, Monterey, CA

TA-W-55,807; Wilbur-Ellis Co., Umatilla, OR

TA-W-55,840; Sun Microsystems, Inc., Restoration Services, Burlington, MA

TA-W-55,855; Van de Wiele-IRO, Inc., Charlotte, NC

TA-W-55,826; Dendrite International, Stroudsburg, PA

The investigation revealed that criterion (a)(2)(A)(I.A) and (a)(2)(B)(II.A) (no employment decline) has not been met.

TA-W-55,780; GE Security, Tualatin Div., a subsidiary of General Electric, Tualatin, OR

TA-W-55,849; Eaton Corp., Three Rivers, MI

TA-W-55,764; DeVlieg Bullard II, Inc., Services Group, Machesney Park, IL

TA-W-55,757; Bernhardt Furniture Co., Bernhardt Central Warehouse, Lenoir, NC, A; Bernhardt Central Services, Lenoir, NC, B; Corporate Office, Lenoir, NC, D; Plant 1B, Lenoir, NC, F; Plant 3, including on-site leased workers of Accuforce Staffing Forces, Lenoir, NC, G; Plant 4, including on-site leased workers of People Connection Staffing, Lenoir, NC, H; Plant 5, including on-site leased workers of Able Body Labor, Lenoir, NC, I; Plant 6, including on-site leased workers of Accuforce Staffing Forces, Lenoir, NC, J; Plant 7, Lenoir, NC, K; Plant 9, including on-site leased workers of Accuforce Staffing Forces and PSU, Shelby, NC, L; Plant 11, including on-site leased workers of Accuforce Staffing Forces, Lenoir, NC, M; Plant 14, including on-site leased workers of USA Staffing, Cherryville, NC

The investigation revealed that criterion (a)(2)(A)(I.B) (Sales or production, or both, did not decline) and (a)(2)(B)(II.B) (has shifted production to a county not under the free trade agreement with U.S.) have not been met.

TA-W-55,594; Bosch-Rexroth Corp., Mobile Hydraulics Div., Wooster, OH

TA-W-55,689; Alpha Circuit Technology LLC, Rogers, MN

TA-W-55,715; Merix Corp., including leased workers of Express Personnel and Xenium, Forest Grove, OR

TA-W-55,796; Volunteer Knit Apparel, Inc., New Tazewell, TN

TA-W-55,760; C&D Lumber Co., Riddle, OR

TA-W-55,874 & A; Evansville Veneer, Div. of Kimball, Inc., Chandler, IN and Sales Office, Div. of Kimball, Inc., High Point, NC

TA-W-55,794; Schneider Electric, Oxford Manufacturing Plant, Oxford, OH

The investigation revealed that criteria (a)(2)(A) (I.C) increased imports and (II.C) (has shifted production to a foreign country) have not been met.

TA-W-55,748; Liz Claiborne, Inc., North Bergen, NJ

The investigation revealed that criteria (2) has not been met. The workers firm (or subdivision) is not a supplier or downstream producer to trade-affected companies.

TA-W-55,821; Lear Corp., Seating Systems Div., Hazelwood, MO

Affirmative Determinations for Worker Adjustment Assistance

The following certifications have been issued; the date following the company name and location of each determination references the impact date for all workers of such determination.

The following certifications have been issued. The requirements of (a)(2)(A) (increased imports) of Section 222 have been met.

TA-W-55,707; Iris Apparel, Inc., including on-site leased workers from Skilstaf, Clarkrange, TN: September 20, 2003.

TA-W-55,770; Tie Assembly, Inc., New York, NY: September 22, 2003.

TA-W-55,758; Technical Associates, leased workers at Brown & Williamson Tobacco Corp., Macon, GA: March 18, 2003.

TA-W-55,717; General Chemical, Marcus Hook Plant, a Div. of Gentek, Inc., Claymont, DE: September 14, 2003.

TA-W-55,656 & A; Bombardier Transportation, a subsidiary of Bombardier, Inc., Propulsion Div., Pittsburgh, PA and Total Transit Systems (TTS) Div., Pittsburgh, PA: September 8, 2003.

TA-W-55,723; Rising Tide Ltd, Kindred Spirit Div., Florence, MA: September 15, 2003.

TA-W-55,713; Techform Advanced Casting Technology, LLC, a subsidiary of Techform, Inc., including on-site leased workers from Employment Trends, Milwaukie, OR: September 27, 2003.

TA-W-55,761; Technicon Engineering, leased workers at Brown & Williamson Tobacco Corp., Macon, GA: September 24, 2003.

TA-W-55,714; Interface Fabrics, Customer Service Department, Elkin, NC: October 1, 2003.

TA-W-55,774; Capitol Records, Inc., Customer Fulfillment Operations, a subsidiary of EMI Music, including on-site leased workers of Adecco, Jacksonville, IL: September 29, 2003.

TA-W-55,878; Jumpking, Trampoline Div., a subsidiary of Icon Health & Fitness, including leased workers of Gonzales Labor Staffing and PDQ Staffing, Mesquite, TX: October 20, 2003.

TA-W-55,908; Boericke and Tafel, a subsidiary of Nature's Way Products Holding Company, including leased workers of Remedy Intelligence Staffing, Santa Rosa, CA: October 21, 2003.

TA-W-55,941; Gerity-Schultz Corp., Toledo, OH: October 4, 2003.

TA-W-55,710; MPR Associates, subsidiary of Distinct Marketing Designs, Inc., High Point, NC: September 27, 2003.

TA-W-55,816; Tek Industries, Accu, Cut Division, Fremont, NE: October 6, 2003.

TA-W-55,687; Lace Lastics, Inc., Oxford, NC: September 24, 2003.

TA-W-55,697; MacDonald Tube Products, Inc., Madison Heights, MI: September 19, 2003.

TA-W-55,811; Goza Manufacturing, Fort Payne, AL: October 15, 2003.

TA-W-55,654; ELCA Fashion, Inc., including on-site leased workers from CMD Management Corp., El Monte, CA: September 20, 2003.

TA-W-55,861; Northwest Pipe Co., Portland, OR: October 19, 2003.

TA-W-55,828; Ross Mould, Inc., Washington, PA: October 12, 2003.

TA-W-55,852; Guide Corp., Monroe, LA: October 22, 2003.

TA-W-55,754 & A; Dan River, Inc., 111 W 40th St., Sales & Styling Div., New York, NY and 1325 Ave. of The Americas, New York, NY: October 8, 2003.

TA-W-55,830; Modine Manufacturing, Emporia, KS: October 18, 2003.

TA-W-55,860; United States Ceramic Tile Co., East Sparta, OH: November 30, 2003.

TA-W-55,844; Stauffer Glove and Safety Co., Employees Working at Techneglas, Inc., Pittston, PA: September 28, 2003.

TA-W-55,752; Grand Traverse Engineering, Inc., Williamsburg, MI: September 29, 2003.

TA-W-55,746 &A; Westpoint Stevens, Alamance Plant and Distribution Center, Bed Products Div., Burlington, NC and Clemson Fabrication Plant and Distribution Center, Bed Products Div., Clemson, SC: October 4, 2003.

TA-W-55,670; Hartford Technologies Co., Subsidiary of Virginia Industries, Inc., Rocky Hill, CT: September 22, 2003.

TA-W-55,751; Seams, Inc., White Mills, PA: October 6, 2003.

TA-W-55,888; Trimtex Co., Inc., Williamsport, PA: October 29, 2003.

TA-W-55,672; American Umbrella Co., Inc., Ridgewood, NY: August 27, 2003.

TA-W-55,743; Dawson Furniture Co., Inc., Webb City, MO: November 8, 2004.

TA-W-55,934; Bogner of America, Newport, VT: November 2, 2003.

TA-W-55,801 & A; Atwood Mobile Products, a subsidiary of Dura Automotive Systems, Hiawatha Plant, Rockford, IL and Fabrication Center, Rockford, IL: October 14, 2003.

TA-W-55,762; Seton Company, Newark, NJ: October 7, 2003.

TA-W-55,797; Hedstrom Corp., Backyard and Fun Div., including on-site leased workers from Spherion Corp., and Thomas Staffing Services, Bedford, PA: October 13, 2003.

TA-W-55,776; Whitewood Industries, Inc., Pocahontas Div., Pocahontas, AR: October 7, 2003.

TA-W-55,711; San Francisco Sewing Association, Daly City, CA: September 29, 2003.

TA-W-55,737; F.S. Childers and Sons Lumber Co., Inc., Taylorsville, NC: October 4, 2003.

TA-W-55,870; Philadelphia Binding & Trimming Corp., Philadelphia, PA: October 20, 2003.

TA-W-55,615 & A; Innovative Leather Technologies, Livonia, MI and Canton, MI: September 13, 2003.

TA-W-55,725; Tupperware U.S., Inc., including on-site leased workers from The Holland Group, Hemingway, SC: August 28, 2003.

TA-W-55,721; NCH Sewing, Inc., (formerly located in San Francisco, CA), Daly City, CA: September 20, 2003.

TA-W-55,673; Magi, Inc., Okanogan, WA: September 21, 2003.

TA-W-55,667; Dynamic Machining & Plastics, Henry, TN: September 23, 2003.

TA-W-55,757C & TA-W-55,757E; Bernhardt Furniture Co, Plant 1A, including on-site leased workers of People Connection Staffing, Lenoir, North Carolina and Plant 2, including on-site leased workers of People Connection Staffing, Lenoir, NC: September 26, 2004.

The following certifications have been issued. The requirements of (a) (2) (B) (shift in production) of Section 222 have been met.

TA-W-55,768; Japlar Group, Inc., Cincinnati, OH: October 1, 2003.

TA-W-55,858; Orion Sewing Co., San Francisco, CA: September 29, 2003.

TA-W-55,926; Emerson Heating Products, Vernon, AL: November 3, 2003.

TA-W-55,963; Square D Company, Standard Products Div., Lincoln, NE: November 5, 2003.

TA-W-55,932; Leon-Ferenbach, Inc., Johnson City, TN: October 13, 2003.

TA-W-55,795; Emerson Network Power, Energy Systems, North America, Lorain, OH: November 7, 2004.

TA-W-55,882; Federal-Mogul Corp., Sealing Systems Div., Frankfort, IN: October 21, 2003.

TA-W-55,869; Teleplan International, Norcross, GA: October 1, 2003.

TA-W-55,766; Aerotek, Inc., Employees Working at Solectron USA, Inc., Charlotte, NC: October 8, 2003.

TA-W-55,775; American Fibrit, Automotive Group, a wholly owned subsidiary of Johnson Controls, Inc., Battle Creek, MI, engaged in employment related to the production of GM Grand Prix door panels who became totally or partially separated on or after October 7, 2003.

TA-W-55,856; Teepak, LLC, including leased workers of Westaff, Alternative Staffing, Snelling Personnel and TPC Staffing Agency, Wienie Pak Div., Summerville, SC: October 20, 2003.

TA-W-55,784; Conso International Corp., Outside Sales, Murrieta, CA: August 23, 2003.

TA-W-55,729; Jervis B. Webb Company, Mt. Vernon, OH: September 22, 2003.

TA-W-55,814; United Receptacle, Inc., Pottsville, PA: October 13, 2003.

TA-W-55,930; Trivirix, Salt Lake City, UT: October 26, 2003.

TA-W-55,916; Furnlite, Inc., Fallston, NC: October 26, 2003.

TA-W-55,788; TI Group Automotive Systems, Ashley, IN: October 4, 2003.

TA-W-55,834; Dreamtime, Inc., Santa Cruz, CA: October 12, 2003.

TA-W-55,872; Renfro Corp., Riverside Plant, Mt. Airy, NC: October 21, 2003.

TA-W-55,853; Avery Dennison, Summit Plant, formerly known as L&E Pack, including on-site leased workers of Adecco, Greensboro, NC: October 22, 2003.

TA-W-55,825 & A; Jockey International, Inc., Carlisle, KY and Mt. Sterling, KY: October 18, 2003.

TA-W-55,818; Vishay Intertechnology, Dale Electronics Div., Norfolk, NE: October 18, 2003.

TA-W-55,520 & A; Galey & Lord Industries, Inc., New York, NY and Greensboro Corporate Office, Greensboro, NC: August 24, 2003.

TA-W-55,902; Lion Ribbon Company, Inc., a subsidiary of Berwick Offray, LLC, Anniston, AL: November 1, 2003.

TA-W-55,804; South East Printing and Embroidery, including leased workers of Staffing Concepts National, Miami, FL: October 14, 2003.

TA-W-55,824; Naturally Knits, Inc., Gastonia, NC: October 12, 2003.

TA-W-55,901; Raltron Electronics Corp., Miami, FL: November 1, 2003.

TA-W-55,910; Temoinsa Corp., a wholly owned subsidiary of Temoinsa, Plattsburgh, NY: October 27, 2003.

TA-W-55,909; Turbon International, Inc., including on-site leased workers of Performance Personnel, York, PA: November 3, 2003.

TA-W-55,954; Standard Register Co., a wholly owned subsidiary of Standard Register, Radcliff, KY: November 5, 2003.

TA-W-55,790; St. John Knits, Inc., Jewelry Department, Santa Ana, CA: October 4, 2003.

TA-W-55,759A; Chroma Systems, a subsidiary of Collins & Aikman/Tandus Co. and The Dixie Group, Santa Ana, CA: September 13, 2003.

TA-W-55,791; Mid-West Metal Products Co., Inc., Cowan Road Plant and Warehouse One, Muncie, IN: September 30, 2003.

TA-W-55,759; Monterey Carpets, a subsidiary of Collins & Aikman/Tandus Co., Santa Ana, CA: September 13, 2003.

TA-W-55,868; MT Picture Display Corporation of America (Ohio), a subsidiary of Matsushita Toshiba Picture Display Co., Ltd, Troy, OH: October 26, 2003.

TA-W-55,744 & A; Hendry Telephone Products, including leased workers of Volt Temporary Services, Goleta, CA and including leased workers of Adecco, Apply One, Chase, Dicker, Express Personnel, Grove, Kestone, Manpower, PDQ Temporaries, Pomerantz, Sterling, Sunbelt and Verion, Plano, TX: October 5, 2003.

TA-W-55,639; Maxine Swim Group, Inc., Los Angeles, CA: September 15, 2003.

TA-W-55,823; Haldex Brake Products Corp., Braking Controls Div., Iola, KS: October 18, 2003.

TA-W-55,802; Techneglas, Inc., Perrysburg, OH: October 7, 2003.

TA-W-55,895; Rosemount Analytical, Inc., Process Analytic Division, Orrville, OH: September 17, 2004.

TA-W-55,881; Landis + Gyr, Inc., a div. of Bayard Americas, Inc., Lafayette, In: October 27, 2003.

TA-W-55,740; American Slate & Marble of Hickory, Inc., Hickory, NC: September 28, 2003.

TA-W-55,753; VF Imagewear, Sparta, TN: September 28, 2003.

TA-W-55,693; Acuity Lighting Group, Inc., Acuity Brands Lighting Supply Chain Div., Cochran, GA: September 20, 2003.

TA-W-55,728; Medex, Inc., including leased workers of Adecco, Dublin, OH: September 28, 2003.

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department as determined that criterion (2) of Section 246 has not been met. Workers at the firm possess skills that are easily transferable.

TA-W-55,697; MacDonald Tube Products, Inc., Madison Heights, MI

TA-W-55,687; Lace Lastics, Inc., Oxford, NC

TA-W-55,788; TI Group Automotive Systems, Ashley, IN

TA-W-55,816; Tek Industries, Accu Cut Div., Fremont, NE

TA-W-55,710; MPR Associates, subsidiary of Distinct Marketing Designs, Inc., High Point, NC

TA-W-55,941; Gerity-Schultz Corp., Toledo, OH

TA-W-55,916; Furnlite, Inc., Fallston, NC

TA-W-55,930; Trivirix, Salt Lake City, UT

TA-W-55,908; Boericke and Tafel, a subsidiary of Nature's Way Products Holding Co., including leased workers of Remedy Intelligence Staffing, Santa Rosa, CA

TA-W-55,878; Jumpking, Trampoline Div., a subsidiary of Icon Health & Fitness, including leased workers of Gonzales Labor Staffing and PDQ Staffing, Mesquite, TX

TA-W-55,814; United Receptacle, Inc., Pottsville, PA

TA-W-55,729; Jervis B. Webb Company, Mt. Vernon, OH

TA-W-55,784; Conso International Corp., Outside Sales, Murrieta, CA

TA-W-55,815; Philips Consumer Electronics, Service Publications Department, Knoxville, TN

TA-W-55,856; Teepak, LLC, including leased workers of Westaff, Alternative Staffing, Snelling Personnel and TPC Staffing Agency, Wienie Pak Div., Summerville, SC

TA-W-55,766; Aerotek, Inc., Employees Working at Solectron USA, Inc., Charlotte, NC

TA-W-55,774; Capitol Records, Inc., Customer Fulfillment Operations, a subsidiary of EMI Music, including on-site leased workers of Adecco, Jacksonville, IL

TA-W-55,714; Interface Fabrics, Customer Service Department, Elkin, NC

TA-W-55,775; American Fibrit, Automotive Group, a wholly owned subsidiary of Johnson Controls, Inc., Battle Creek, MI engaged in employment related to the production of GM Grand Prix door panels.

The Department as determined that criterion (1) of Section 246 has not been met. Workers at the firm are 50 years of age or older.

TA-W-55,834; Dreamtime, Inc., Santa Cruz, CA

TA-W-55,654; ELCA Fashion, Inc., including on-site leased workers from CMD Management Corp., El Monte, CA

TA-W-55,811; Goza Manufacturing, Fort Payne, AL

Since the workers are denied eligibility to apply for TAA, the workers cannot be certified eligible for ATAA.

TA-W-55,689; Alpha Circuit Technology LLC, Rogers, MN

TA-W-55,715; Merix Corp., including leased workers of Express Personnel and Xenium, Forest Grove, OR

TA-W-55,730; B&J Knits, Inc., Stateville, NC

TA-W-55,742; Rock-Tenn Co., Otsego, MI

TA-W-55,741; Jefferson Smurfit Corp., Corrugated Container Div., a subsidiary of Smurfit Stone Container Corp., Milford, CT

TA-W-55,485; American Italian Pasta Co., Excelsior Springs, MO

TA-W-55,658; General Dynamics Land Systems, California Technical Center, including on-site Workers from CDI Professional Services, Goleta, CA

TA-W-55,704; Quantegy, Inc., Opelika, AL

TA-W-55,839; Lindsay Claire Designs, Ltd, Niagara Falls, NY

TA-W-55,705; Mid-South Waste, a subsidiary of Hi-Rise Recycling Co., Inc., New Albany, MS

TA-W-55,863; Dorby Frocks, New York, NY

TA-W-55,690; Tower Automotive, Michigan Limited Partnership, Greenville, MI

TA-W-55,732; John Crane, Inc., McAllen Warehouse, McAllen, TX

TA-W-55,739; Zenith Electronics Corp., a subsidiary of LG Electronics, Inc., Lincolnshire, IL

TA-W-55,692; Falcon Garments, Dallas, TX

TA-W-55,867; Blue River Consulting, Inc., Denver, CO

TA-W-55,807; Wilbur-Ellis Co., Umatilla, OR

TA-W-55,849; Eaton Corp., Three Rivers, MI

TA-W-55,777; Language Line Services, a div. of Language Line, LLC, Monterey, CA

TA-W-55,840; Sun Microsystems, Inc., Restoration Services, Burlington, MA

TA-W-55,855; Van de Wiele-IRO, Inc., Charlotte, NC

TA-W-55,826; Dendrite International, Stroudsburg, PA

TA-W-55,780; GE Security, Tualatin Div., a subsidiary of General Electric, Tualatin, OR

TA-W-55,760; C&D Lumber Co., Riddle, OR

TA-W-55,764; DeVlieg Bullard II, Inc., currently known as Bourn and Dock, Inc., Services Group, Machesney Park, IL

TA-W-55,796; Volunteer Knit Apparel, Inc., New Tazewell, TN

TA-W-55,874 &A; Evansville Veneer, div. of Kimball, Inc., Chandler, IN and Sales Office, Div. of Kimball, Inc., High Point, NC

TA-W-55,794; Schneider Electric, Oxford Manufacturing Plant, Oxford, OH

TA-W-55,748; Liz Claiborne, Inc., North Bergen, NJ

TA-W-55,821; Lear Corp., Seating Systems Div., Hazelwood, MO

TA-W-55,775; American Fibrit, Automotive Group, a wholly owned subsidiary of Johnson Controls, Inc., Battle Creek, MI, engaged in employment related to the production of Saturn instrument panels and Mercedes door panels.

TA-W-55,757; Bernhardt Furniture Co., Bernhardt Central Warehouse, Lenoir, NC, A; Bernhardt Central Services, Lenoir, NC, B; Corporate Office, Lenoir, NC, D; Plant 1B, Lenoir, NC, F; Plant 3, including on-site leased workers of Accuforce Staffing Forces, Lenoir, NC, G; Plant 4, including on-site leased workers of People Connection Staffing, Lenoir, NC, H; Plant 5, including on-site leased workers of Able Body Labor, Lenoir, NC, I; Plant 6, including on-site leased workers of Accuforce Staffing Forces, Lenoir, NC, J; Plant 7, Lenoir, NC, K; Plant 9, including on-site leased workers of Accuforce Staffing Forces and PSU, Shelby, NC, L; Plant 11, including on-site leased workers of Accuforce Staffing Forces, Lenoir, NC, M; Plant 14, including on-site leased workers of USA Staffing, Cherryville, NC

Affirmative Determinations for Alternative Trade Ajdustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-55,728; Medex, Inc., including leased workers of Adecco, Dublin, OH: September 28, 2003.

TA-W-55,740; American Slate & Marble of Hickory, Inc., Hickory, NC: September 28, 2003.

TA-W-55,753; VF Imagewear, Sparta, TN: September 28, 2003.

TA-W-55,802; Techneglas, Inc., Perrysburg, OH: October 7, 2003.

TA-W-55,693; Acuity Lighting Group, Inc., Acuity Brands Lighting Supply Chain Div., Cochran, GA: September 20, 2003.

TA-W-55,667; Dynamic Machining & Plastics, Henry, TN: September 23, 2003.

TA-W-55,673; Magi, Inc., Okanogan, WA: September 21, 2003.

TA-W-55,721; NCH Sewing, Inc., (formerly located in San Francisco, CA), Daly City, CA: September 20, 2003.

TA-W-55,725; Tupperware U.S., Inc., including on-site leased workers from The Holland Group, Hemingway, SC: August 28, 2003.

TA-W-55,615 &A; Innovative Leather Technologies, Livonia, MI and Canton, MI: September 13, 2003.

TA-W-55,639; Maxine Swim Group, Inc., Los Angeles, CA: September 15, 2003.

TA-W-55,823; Haldex Brake Products Corp., Braking Controls Div., Iola, KS: October 18, 2003.

TA-W-55,895; Rosemount Analytical, Inc., Process Analytic Div., Orrville, OH: September 17, 2004.

TA-W-55,881; Landis + Gyr, Inc., a Div. of Bayard Americas, Inc., Lafayette, IN: October 27, 2003.

TA-W-55,870; Philadelphia Binding & Trimming Corp., Philadelphia, PA: October 20, 2003.

TA-W-55,868; MT Picture Display Corporation of America (Ohio), a subsidiary of Matsushita Toshiba Picture Display Co., Ltd, Troy, OH: October 26, 2003.

TA-W-55,711; San Francisco Sewing Association, Daly City, CA: September 29, 2003.

TA-W-55,762; Seton Co., Newark, NJ: October 7, 2003.

TA-W-55,737; F.S. Childers and Sons Lumber Co., Inc., Taylorsville, NC: October 4, 2003.

TA-W-55,759; Monterey Carpets, a subsidiary of Collins & Aikman/Tandus Company, Santa Ana, CA: September 13, 2003.

TA-W-55,791; Mid-West Metal Products Co., Inc., Cowan Road Plant and Warehouse One, Muncie, IN: September 30, 2003.

TA-W-55,759A; Chroma Systems, a subsidiary of Collins & Aikman/Tandus Co. and The Dixie Group, Santa Ana, CA: September 13, 2003.

TA-W-55,776; Whitewood Industries, Inc., Pocahontas Div., Pocahontas, AR: October 7, 2003.

TA-W-55,790; St. John Knits, Inc., Jewelry Department, Santa Ana, CA: October 4, 2003.

TA-W-55,797; Hedstrom Corp., Backyard and Fun Div., including on-site leased workers from Spherion Corporation and Thomas Staffing Services, Bedford, PA: October 13, 2003.

TA-W-55,801 &A; Atwood Mobile Products, a subsidiary of Dura Automotive Systems, Hiawatha Plant, Rockford, IL and Fabrication Center, Rockford, IL: October 14, 2003.

TA-W-55,934; Bogner of America, Newport, VT: November 2, 2003.

TA-W-55,954; Standard Register Co., a wholly owned subsidiary of Standard Register, Radcliff, KY: November 5, 2003.

TA-W-55,909; Turbon International, Inc., including on-site leased workers of Performance Personnel, York, PA: November 3, 2003.

TA-W-55,910; Temoinsa Corp., a wholly owned subsidiary of Temoinsa, Plattsburgh, NY: October 27, 2003.

TA-W-55,901; Raltron Electronics Corp., Miami, FL: November 1, 2003.

TA-W-55,888; Trimtex Co., Inc., Williamsport, PA: October 29, 2003.

TA-W-55,672; American Umbrella Co., Inc., Ridgewood, NY: August 27, 2003.

TA-W-55,743; Dawson Furniture Company, Inc., Webb City, MO: November 4, 2004.

TA-W-55,804; South East Printing and Embroidery, including leased workers of Staffing Concepts National, Miami, FL: October 14, 2003.

TA-W-55,824; Naturally Knits, Inc., Gastonia, NC: October 12, 2003.

TA-W-55,751; Seams, Inc., White Mills, PA: October 6, 2003.

TA-W-55,902; Lion Ribbon Co., Inc., a subsidiary of Berwick Offray, LLC, Anniston, AL: November 1, 2003.

TA-W-55,744 &A; Hendry Telephone Products, including leased workers of Volt Temporary Services, Goleta, CA and including leased workers of Adecco, Apple One, Chase, Dicker, Express Personnel, Grove, Keystone, Manpower, PDQ Temporaries, Pomerantz, Sterling, Plano, TX: October 5, 2003.

TA-W-55,670; Hartford Technologies Co., subsidiary of Virginia Industries, Inc., Rocky Hill, CT: September 22, 2003.

TA-W-55,746; Westpoint Stevens, Alamance Plant and Distribution Center, Bed Products Div., Burlington, NC and Clemson Fabrication Plant and Distribution Center, Bed Products Div., Clemson, SC: October 4, 2003.

TA-W-55,752; Grand Traverse Engineering, Inc., Williamsburg, MI: September 29, 2003.

TA-W-55,844; Stauffer Glove and Safety Co., Employees Working at Techneglas, Inc., Pittston, PA: September 28, 2003.

TA-W-55,860; United States Ceramic Tile Co., East Sparta, OH: November 30, 2003.

TA-W-55,830; Modine Manufacturing, Emporia, KS: October 18, 2003.

TA-W-55,754 & A; Dan River, Inc., 111 W 40th St, Sales & Styling Div., New York, NY and 1325 Avenue of The Americas, New York, NY: October 8, 2003.

TA-W-55,818; Vishay Intertechnology, Dale Electronics Div., Norfolk, NE: October 18, 2003.

TA-W-55,825 & A; Jockey International, Inc., Carlisle, KY and Mt, Sterling, KY: October 18, 2003.

TA-W-55,828; Ross Mould, Inc., Washington, PA: October 12, 2003.

TA-W-55,852; Guide Corporation, Monroe, LA: October 22, 2003.

TA-W-55,853; Avery Dennison, Summit Plant, Formerly Known as L&E Pack, Including On-Site Leased Workers of Adecco, Greensboro, NC: October 22, 2003.

TA-W-55,861; Northwest Pipe Company, Portland, OR: October 19, 2003.

TA-W-55,872; Renfro Corp., Riverside Plant, Mt. Airy, NC: October 21, 2003.

TA-W-55,757C and TA-W-55,757E; Bernhardt Furniture Co., Plant 1A, including on-site leased workers of People Connection Staffing, Lenoir, NC and Plant 2, including on-site leased workers of People Connection Staffing, Lenoir, NC: September 26, 2004.

I hereby certify that the aforementioned determinations were issued during the month of November 2004. Copies of these determinations are available for inspection in Room C-5311, U.S. Department of Labor, 200 Constitution Avenue, NW., Washington, DC 20210 during normal business hours or will be mailed to persons who write to the above address.

Dated: November 30, 2004.
Timothy Sullivan,
Director, Division of Trade Adjustment Assistance.

[FR Doc. E4-3587 Filed 12-8-04; 8:45 am]

BILLING CODE 4510-30-P